SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a collection in use without an OMB number.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB), Office of Management and Budget, Attn: Desk Officer for SSA, Fax: 202-395-6974, E-mail address: OIRA_Submission@omb.eop.gov.

(SSA) Social Security Administration, DCBFM, Attn: Director, Center for Reports Clearance, 1333 Annex Building, 6401 Security Blvd., Baltimore, MD 21235, Fax: 410-965-0454, E-mail address: OPLM.RCO@ssa.gov.

I

The information collections below are pending at SSA. SSA will submit them to OMB within 60 days from the date of this notice. To be sure we consider your comments, we must receive them no later than June 1, 2010. Individuals can obtain copies of the collection instruments by calling the SSA Director for Reports Clearance at 410-965-0454 or by writing to the above e-mail address.

1. Application for Child's Insurance Benefits—20 CFR 404.350-404.368, 404.603, & 416.350—0960-0010

SSA uses Form SSA-4-BK to determine if children of living and deceased workers are entitled to their parents' monthly Social Security payments. The respondents are guardians completing the form on behalf of the children of living or deceased workers, or the children of living or deceased workers.

Type of Request: Revision of an OMB-approved information collection.

Form of request | Number of respondents | Response time (minutes) | Burden (hours)
Life Claims (paper) | 8,052 | 12 | 1,610
Life Claims (MCS) | 152,983 | 12 | 30,597
Life Claims-Signature Proxy | 152,983 | 11 | 28,047
Death Claims (paper) | 19,061 | 12 | 3,812
Death Claims (MCS) | 362,150 | 12 | 72,430
Death Claims-Signature Proxy | 362,150 | 11 | 66,394
Totals | 1,057,379 |  | 202,890

2. Report to United States Social Security Administration by Person Receiving Benefits for a Child or for an Adult Unable To Handle Funds/Report to the United States Social Security Administration—0960-0049

SSA uses the information it collects on Forms SSA-7161-OCR-SM and SSA-7162-OCR-SM to: (1) Determine continuing entitlement to Social Security benefits; (2) correct benefit amounts for beneficiaries outside the United States; and (3) monitor the performance of representative payees outside the United States. The respondents are individuals living outside the United States who are receiving benefits on their own (or for someone else) under Title II of the Social Security Act.

Type of Request: Revision of an OMB-approved information collection.

Form No. | Number of respondents | Frequency of response | Average burden per response | Estimated annual burden
SSA-7161-OCR-SM | 30,560 | 1 | 15 | 7,640
SSA-7162-OCR-SM | 271,142 | 1 | 5 | 22,595
Totals | 301,702 |  |  | 30,235

3. Real Property Current Market Value Estimate—0960-0471

SSA considers a person's resources when evaluating eligibility for Supplemental Security Income (SSI) payments. The value of an individual's resources, including non-home real property, is one of the eligibility requirements for SSI payments. SSA obtains current market value estimates of real property owned by applicants for, or recipients of, SSI through Form SSA-L2794. The respondents are small business operators in real estate, state and local employees, and other individuals knowledgeable about local real estate values.

Type of Request: Revision of an OMB-approved information collection.

Number of Respondents: 5,438.

Frequency of Response: 1.

Average Burden per Response: 20 minutes.

Estimated Annual Burden: 1,813 hours.

4. Employer Verification of Earnings After Death—20 CFR 404.821 and 404.822—0960-0472

When SSA records show a wage earner is deceased and an employer reported wages for the wage earner for a year subsequent to death, SSA must contact the employer and verify the reported wage and employee information. The information SSA obtains on Form SSA-L4112 verifies the wage information previously received from the employer is correct for the employee and the year in question. The respondents are employers who report wages for employees who have died.

Type of Request: Revision of an OMB-approved information collection.

Number of Respondents: 50,000.

Frequency of Response: 1.

Average Burden per Response: 10 minutes.

Estimated Annual Burden: 8,333 hours.

5. Wage Reports and Pension Information—20 CFR 422.122(b)—0960-0547

Pension plan administrators annually file plan information with the Internal Revenue Service, who then forwards the information to SSA. SSA maintains and organizes this information by plan numbers, plan participant's name, and Social Security number. Under Section 1131(a) of the Social Security Act, pension plan participants are entitled to request this information from SSA. The Wage Reports and Pension Information regulation, 20 CFR 422.122(b) of the Code of Federal Regulations, stipulates that before SSA disseminates this information, the requester must first submit a written request with identifying information to SSA. The respondents are requestors of pension plan information.

Type of Request: Extension of an OMB-approved information collection.

Number of Respondents: 600.

Frequency of Response: 1.

Average Burden per Response: 30 minutes.

Estimated Annual Burden: 300 hours.

6. Request for Reconsideration—20 CFR 404.907-404.921, 416.1407-416.1421, 408.1009—0960-0622

SSA uses Form SSA-561-U2 to initiate and document the reconsideration process for determining an individual's eligibility or entitlement to Social Security benefits (Title II), SSI payments (Title XVI), Special Veterans Benefits (Title VIII), Medicare (Title XVIII), and for initial determinations regarding Medicare Part B income-related premium subsidy reductions. The respondents are individuals filing for reconsideration.

Type of Request: Revision of an OMB-approved information collection.

Collection method | Number of respondents | Frequency of response | Average burden per response (minutes) | Estimated annual burden (hours)
Paper form & Modernized Claims System | 730,850 | 1 | 8 | 97,447
Internet i561 | 730,850 | 1 | 20 | 243,617
Totals | 1,461,700 |  |  | 341,064

7. Identifying Information for Possible Direct Payment of Authorized Fees—0960-0730

SSA collects information from claimants' appointed representatives on Form SSA-1695 to process and facilitate direct payment of authorized fees to a financial institution. SSA also needs this information to issue a Form 1099-MISC, if applicable. Finally, SSA uses Form SSA-1695 to establish a link between each claim for benefits and the data that we collect on the SSA-1699 for our appointed representative database. The respondents are attorneys and other individuals who represent claimants for benefits before SSA.

Type of Request: Extension of an OMB-approved information collection.

Number of Respondents: 10,000.

Frequency of Response: 40.

Average Burden per Response: 10 minutes.

Estimated Annual Burden: 66,667 hours.

II

SSA has submitted the information collections listed below to OMB for clearance. Your comments on the information collections would be most useful if OMB and SSA receive them within 30 days from the date of this publication. To be sure we consider your comments, we must receive them no later than April 29, 2010. You can obtain a copy of the OMB clearance packages by calling the SSA Director for Reports Clearance at 410-965-0454 or by writing to the above e-mail address.

1. Waiver of Supplemental Security Income Payment Continuation—20 CFR 416.1400-416.1422—0960-NEW

SSA uses Form SSA 263-U2 to determine whether an individual meets the provisions of the Social Security Act regarding waiver of payment continuation. Recipients must use Form SSA 263-U2 when they are awaiting a determination on their appeal and have decided to stop their payment continuation. SSA needs the information on the form as proof respondents no longer want their payments to continue. Respondents are recipients of SSI payments who wish to discontinue receipt of payment while awaiting a determination on their appeal.

Type of Request: Existing information collection in use without an OMB number.

Number of Respondents: 3,000.

Frequency of Response: 1.

Average Burden per Response: 5 minutes.

Estimated Annual Burden: 250 hours.

2. Centenarian Project Development Worksheets: Face-to-Face Interview; Telephone Interview; Third Party Contact; Unable To Locate—20 CFR 416.204(b) and 422.135—0960-NEW

SSA conducts interviews with centenary beneficiaries age 103 and older to assess: (1) If the beneficiaries are still living; (2) to prevent fraud, through either identity misrepresentation or representative payee misuse of funds; and (3) to assess the well-being of the beneficiaries. SSA's San Francisco field offices currently use this survey, and we intend to expand its use to all other SSA field offices. Field office personnel obtain the information through one-time, in-person interviews with centenarians. During the interview, SSA employees will make overall observations of the centenarian and their representative payee (if applicable). The interviewer will use the appropriate Centenarian Development Worksheet as a guide for the interview and to document findings. SSA will conduct the interview one time only at the beneficiary's residence or over the phone if a site visit is not possible. Refusal of the interview will not result in the suspension of the centenarian's payments. Respondents are SSI recipients or Social Security beneficiaries 103 years old or older, their representative payees, or caregivers.

Type of Request: Existing information collection in use without an OMB number.

Number of Respondents: 14,000.

Frequency of Response: 1.

Average Burden per Response: 15 minutes.

Estimated Annual Burden: 3,500 hours.

3. Notice Regarding Substitution of Party Upon Death of Claimant—Reconsideration of Disability Cessation—20 CFR 404.917-404.921 and 416.1407-416.1421—0960-0351

When a claimant dies before we make a determination on that person's request for reconsideration of their disability cessation, SSA seeks a qualified substitute party to pursue the appeal. If SSA locates a qualified substitute party, the agency collects information on Form SSA-770 about whether to pursue or withdraw the reconsideration request. The information Form SSA-770 collects is the basis of the decision to continue or discontinue the appeals process. Respondents are substitute applicants who are pursuing a reconsideration request for a deceased claimant.

Type of Request: Revision of an OMB-approved information collection.

Number of Respondents: 1,200.

Frequency of Response: 1.

Average Burden per Response: 5 minutes.

Estimated Annual Burden: 100 hours.

4. Application for Benefits Under the Italy-U.S. International Social Security Agreement—20 CFR 404.1925—0960-0445

SSA collects information using Form SSA-2582 based on the United States-Italy agreement effective November 1, 1978. Article 19.2 of the agreement provides that an applicant for benefits can file an application with either country. Article 4.3 of the Protocol to the Agreement dictates the country receiving the application will forward agreed-upon forms and applications to the other country. As agreed upon by the United States and Italian Social Security agencies, individuals filing an application for U.S. benefits directly with one of the Italian Social Security agencies must complete Form SSA-2528. SSA uses the SSA-2528 to establish age, relationship, citizenship, marriage, death, military service, or to evaluate a family bible or other family record when determining eligibility for benefits. The Italian Social Security agencies assist applicants in completing Form SSA-2528 and then forward the application to SSA for processing. The respondents are individuals living in Italy who wish to file for U.S. Social Security benefits.

Type of Request: Revision of an OMB-approved information collection.

Number of Respondents: 250.

Frequency of Response: 1.

Average Burden per Response: 20 minutes.

Estimated Annual Burden: 83 hours.

5. Earnings Record Information—20 CFR 404.801-404.803 and 404.821-404.822—0960-0505

SSA discovered that as many as 70 percent of the wage reports it receives for children under age 7 are actually the earnings of someone other than the child. To ensure we credit the correct person with the reported earnings, SSA verifies wage reports for children under age 7 with the children's employers before posting to the earnings record. SSA uses Form SSA-L3231-C1 for this purpose. The respondents are employers who report earnings for children under age 7.

Type of Request: Revision of an OMB-approved information collection.

Number of Respondents: 20,000.

Frequency of Response: 1.

Average Burden per Response: 10 minutes.

Estimated Annual Burden: 3,333 hours.

6. Work Incentives Planning and Assistance Program—0960-0629

The Work Incentives Planning and Assistance (WIPA) program collects identifying information from project sites and Community Work Incentives Coordinators (CWIC). In addition, the program collects data from beneficiaries on background employment, training, benefits, and work incentives. SSA is interested in identifying beneficiary outcomes under the WIPA program to determine the extent to which beneficiaries with disabilities achieve their employment, financial, and health care goals. SSA will also use the data in its analysis and future planning for Social Security Disability Insurance and SSI programs.

Type of Request: Extension of an OMB-approved information collection.

Respondents | Number of responses | Frequency of response | Average burden per response (minutes) | Estimated annual burden (hours)
Project Site | 147 | 1 | 2 | 5
CWIC | 422 | 1 | 2 | 14
Beneficiary | 60,000 | 1 | 5 | 5,000
Totals | 60,569 |  |  | 5,019

7. Beneficiary Interview and Auditor's Observations Form—0960-0630

SSA's Office of the Inspector General collects information through Form SSA-322, the Beneficiary Interview and Auditor's Observation form, to interview beneficiaries and/or their payees to determine if they are complying with their duties and responsibilities. SSA randomly selects SSI recipients and Social Security beneficiaries who have representative payees as respondents for this collection.

Type of Request: Extension of an OMB-approved information collection.

Number of Respondents: 200.

Frequency of Response: 1.

Average Burden per Response: 15 minutes.

Estimated Annual Burden: 50 hours.

8. Certification of Contents of Document(s) or Record(s)—20 CFR 404.715f—0960-0689

SSA must secure evidence necessary for individuals to establish rights to benefits. Some of the required evidence categories include evidence of age, relationship, citizenship, marriage, death, and military service. Form SSA-704 allows SSA employees, state record custodians, and other custodians of evidentiary documents to record information from documents and records to establish these types of evidence. State record custodians and other custodians of evidentiary documents are the respondents.

Type of Request: Revision of an OMB-approved information collection.

Number of Respondents: 4,800.

Frequency of Response: 1.

Average Burden per Response: 10 minutes.

Estimated Annual Burden: 800 hours.

Dated: March 25, 2010.
Elizabeth Davidson,
Center Director, Center for Reports Clearance, Social Security Administration.

[FR Doc. 2010-7016 Filed 3-29-10; 8:45 am]

BILLING CODE 4191-02-P